DEPARTMENT OF ENERGY

Federal Energy Regulatory Commission

Combined Notice of Filings

Take notice that the Commission has received the following Natural Gas Pipeline Rate and Refund Report filings:

Docket Numbers: CP20-519-000.

Applicants: Transcontinental Gas Pipe Line Company, LLC.

Description: Transcontinental Gas Pipe Line Company, LLC submits an amendment regarding the Southeastern Trail Project under CP20-519-000 Application/Petition/Request | Tariff Filing.

Filed Date: 9/1/20.

Accession Number: 20200901-5306.

Comments Due: 5 p.m. ET 9/11/20.

Docket Numbers: RP20-1162-000.

Applicants: Applicant information is not available at this time. Atms or FOLA not available now.

Description: § 4(d) Rate Filing: Name Change Cleanup—CenterPoint Energy to Symmetry Energy to be effective 10/2/2020.

Filed Date: 9/2/20.

Accession Number: 20200902-5095.

Comments Due: 5 p.m. ET 9/14/20.

Docket Numbers: RP20-1163-000.

Applicants: Applicant information is not available at this time. Atms or FOLA not available now.

Description: § 4(d) Rate Filing: Negotiated Rate—City of Lakeland 9235960 to be effective 10/1/2020.

Filed Date: 9/2/20.

Accession Number: 20200902-5097.

Comments Due: 5 p.m. ET 9/14/20.

Docket Numbers: RP20-1164-000.

Applicants: Applicant information is not available at this time. Atms or FOLA not available now.

Description: § 4(d) Rate Filing: Management Name Change Filing to be effective 10/3/2020.

Filed Date: 9/2/20.

Accession Number: 20200902-5112.

Comments Due: 5 p.m. ET 9/14/20.

Docket Numbers: RP20-1165-000.

Applicants: Applicant information is not available at this time. Atms or FOLA not available now.

Description: § 4(d) Rate Filing: Expired Negotiated Rate Agreement—10/31/2020 to be effective 11/1/2020.

Filed Date: 9/2/20.

Accession Number: 20200902-5114.

Comments Due: 5 p.m. ET 9/14/20.

Docket Numbers: RP20-1166-000.

Applicants: SWN Energy Services Company, LLC.

Description: Joint Petition for Temporary Waivers of Capacity Release Regulations and Policies, et al. of SWN Energy Services Company, LLC, et al. under RP20-1166 Application/Petition/Request | Waiver of Oil or Gas Regulation.

Filed Date: 09/01/20.

Accession Number: 20200901-5321.

Comments Due: 5 p.m. ET 09/08/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2020.
Nathaniel J. Davis, Sr.,
Deputy Secretary.

[FR Doc. 2020-20240 Filed 9-14-20; 8:45 am]

BILLING CODE 6717-01-P